DEPARTMENT OF AGRICULTURE

Agricultural Marketing Service

7 CFR Part 959

[Doc. No. AMS-SC-22-0039]

Onions Grown in South Texas; Continuance Referendum

AGENCY: Agricultural Marketing Service, Department of Agriculture (USDA).

ACTION: Referendum order.

SUMMARY: This document directs that a referendum be conducted among eligible producers of onions grown in South Texas to determine whether they favor continuance of the marketing order regulating the handling of onions produced in the production area.

DATES: The referendum will be conducted from September 1 through October 3, 2022. Only producers of South Texas onions who produced onions within the production area during the period August 1, 2020, through July 31, 2021, are eligible to vote in this referendum. The U.S. Department of Agriculture (Department) will provide the option for ballots to be returned electronically. Further details will be provided in the ballot instructions. Ballots returned via express mail or electronic mail must show proof of delivery by no later than 11:59 p.m. Eastern Time on October 3, 2022, to be counted.

ADDRESSES: Copies of the marketing order may be obtained from the Southeast Region Branch, Market Development Division, Specialty Crops Program, AMS, USDA, 1124 First Street South, Winter Haven, FL 33880; Telephone: (863) 324-3375; or from the Market Development Division, Specialty Crops Program, AMS, USDA, 1400 Independence Avenue SW, STOP 0237, Washington, DC 20250-0237; Telephone: (202) 720-2491; or on the internet: https://www.regulations.gov.

FOR FURTHER INFORMATION CONTACT: Abigail Maharaj, Marketing Specialist, or Christian D. Nissen, Regional Director, Southeast Region Branch, Market Development Division, Specialty Crops Program, AMS, USDA, 1124 First Street South, Winter Haven, FL 33880; Telephone: (863) 324-3375, Fax: (863) 291-8614, or Email: Abigail.Campos@usda.gov or Christian.Nissen@usda.gov.

SUPPLEMENTARY INFORMATION: Pursuant to Marketing Agreement and Order No. 959, as amended (7 CFR part 959), hereinafter referred to as the “Order,” and the applicable provisions of the Agricultural Marketing Agreement Act of 1937, as amended (7 U.S.C. 601-674), hereinafter referred to as the “Act,” it is hereby directed that a referendum be conducted to ascertain whether continuance of the Order is favored by producers. The referendum shall be conducted by mail and email ballot from September 1 through October 3, 2022, among onion producers in the production area. Only Texas onion producers who were engaged in the production of South Texas onions grown in the production area during the period of August 1, 2020, through July 31, 2021, may participate in the continuance referendum. The Department will provide the option for ballots to be returned electronically. Further details will be provided in the ballot instructions.

The results of a referendum the Department conducted of South Texas onion producers in 2020 (85 FR 55388) failed to reach the level of support for continuing the marketing order. The results had 57 percent of the eligible growers voting, representing 53 percent of production volume voted, favoring continuing the program. Voting results prompted the Secretary, as authorized in 7 CFR 959.84(d), to consider termination of this part due to less than two-third of the growers voting in the referendum and growers of less than two-thirds of the volume of onions represented in the referendum voting in support of continuance. Following the results of the continuance referendum, the Department issued a proposed rule (86 FR 42748) inviting comments on the proposed termination of the Order. Feedback received during the public comment period demonstrated support for keeping the Order. AMS received 90 comments, 85 of which opposed termination. Thirty-three of the comments were from the production area, with 31 opposing termination. After reviewing the results of the continuance referendum, and the comments received in response to the proposed termination, the Secretary of Agriculture has determined a second referendum is appropriate to assess the true level of producer support for the program.

The Department would withdraw the proposed rule to terminate the Order if two-thirds of the producers that cast votes, or producers representing two-thirds of the volume of South Texas onions voted in the referendum, cast ballots in favor of continuance. If the results of the referendum do not favor continuance, the Department will consider the results of the continuance referendum and any other relevant information regarding the operation of the Order and relative benefits and disadvantages to producers, handlers, and consumers in determining whether continued operation of the Order would tend to effectuate the declared policy of the Act.

In accordance with the Paperwork Reduction Act of 1995 (44 U.S.C. Chapter 35), the ballots used in the referendum have been approved by the Office of Management and Budget (OMB) and have been assigned OMB No. 0581-0178, Vegetable and Specialty Crops. It has been estimated that it will take an average of 20 minutes for each of the approximately 100 onion producers to cast a ballot. Participation is voluntary. Ballots postmarked after October 3, 2022, will not be included in the vote tabulation. Ballots delivered to the Department via express mail or electronic mail must show proof of delivery by no later than 11:59 p.m. Eastern Time (ET) on October 3, 2022.

Dolores Lowenstine, Abigail Maharaj, and Christian Nissen of the Southeast Region Branch, Market Development Division, Specialty Crops Program, AMS, USDA, are hereby designated as the referendum agents for the Secretary of Agriculture to conduct this referendum. The procedure applicable to the referendum shall be the “Procedure for the Conduct of Referenda in Connection with Marketing Orders for Fruits, Vegetables, and Nuts Pursuant to the Agricultural Marketing Agreement Act of 1937, as Amended” (7 CFR 900.400-7 CFR 900.407).

Ballots and voting instructions will be sent by U.S. mail, United Parcel Service, or through electronic mail to all producers of record and may also be obtained from the referendum agents or their appointees.

List of Subjects in 7 CFR Part 959

Marketing agreements, Onions, Reporting and recordkeeping requirements.

Authority: 7 U.S.C. 601-674.

Melissa Bailey,
Associate Administrator, Agricultural Marketing Service.

[FR Doc. 2022-14574 Filed 7-7-22; 8:45 am]

BILLING CODE 3410-02-P